DEPARTMENT OF ENERGY

Federal Energy Regulatory Commission

[Docket No. CP92-166-005]

Providence Gas Company; Notice of Filing

May 10, 2000.

Take notice that The Providence Gas Company (Providence Gas), on April 26, 2000, tendered for filing an application to amend the limited-jurisdiction blanket transportation certificate issued in the above-captioned docket by substituting the name of the holder of the certificate.

Upon the consummation of a merger agreement between Providence Energy Corporation and Southern Union Company, Providence Gas will cease to exist as a separate legal entity. Providence Gas requests that the Commission amend the blanket certificate to reflect the name of Southern Union Company as the holder of the certificate effective upon the consummation of the merger. Providence Gas states that there will be no material changes to the services provided under the blanket certificate.

Any person desiring to be heard or to protest the filing should file a motion to intervene or protest with the Federal Energy Regulatory Commission, 888 First Street, N.E., Washington, D.C. 20426, in accordance with Rules 211 and 214 of the Commission's Rules of Practice and Procedure (18 CFR 385.211 and 385.214). All such motions must be filed on or before May 31, 2000. Protests will be considered by the Commission in determining the appropriate action to be taken, but will not serve to make protestants parties to the proceeding. Any person wishing to become a party must file a motion to intervene. Copies of this filing are on file with the Commission and are available for public inspection in the Public Reference Room. This filing may also be viewed on the internet at http://www.ferc.fed.us/online.rims.htm (call 202-208-2222 for assistance).

David P. Boergers,
Secretary.

[FR Doc. 00-12214 Filed 5-15-00; 8:45 am]

BILLING CODE 6717-01-M